DEPARTMENT OF TRANSPORTATION

Federal Railroad Administration

[Docket Number FRA-2017-0127]

Petition for Amendment of Waiver of Compliance

Under part 211 of title 49 Code of Federal Regulations (CFR), this document provides the public notice that on August 8, 2022, Dakota, Missouri Valley & Western Railroad (DMVW) petitioned the Federal Railroad Administration (FRA) for an amendment of a waiver of compliance from certain provisions of the Federal railroad safety regulations contained at 49 CFR 229.47, Emergency brake valve. The relevant FRA Docket Number is FRA-2017-0127.

Specifically, DMVW requests to amend its existing relief from the requirement that an emergency brake pipe valve be installed adjacent to the rear door of a locomotive for three EMO SD60 locomotive units (Numbers 5504, 5523, and 5557). The three units are of the same car body type and are not equipped with the rear conductor brake valve. Each of the units have rear walkways and switch style steps, thus allowing the engineer to see the person riding on the back and are equipped with radio communication. These units will be used in road service and will always be paired together. The existing relief applies to eight locomotive units (five EMO SD50 locomotive units and three EMO SD60 locomotive units).¹ DMVW requests that its waiver apply to three additional SD60 locomotive units, for a total of 11 locomotive units.

¹ https://www.regulations.gov/document/FRA-2017-0127-0011.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by October 24, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-19440 Filed 9-7-22; 8:45 am]

BILLING CODE 4910-06-P